DEPARTMENT OF TRANSPORTATION

Federal Aviation Administration

14 CFR Part 39

[Docket No. FAA-2020-0714; Project Identifier MCAI-2020-00589-G; Amendment 39-21189; AD 2020-16-05]

RIN 2120-AA64

Airworthiness Directives; Blanik Aircraft CZ s.r.o.

AGENCY: Federal Aviation Administration (FAA), DOT.

ACTION: Final rule; request for comments.

SUMMARY: The FAA is adopting a new airworthiness directive (AD) for all Blanik Aircraft CZ s.r.o. Model L 23 Super-Blanik gliders. This AD requires a one-time inspection of the rudder control cable attachment screws and hinge bolts, replacement of the cable attachment screws and hinge bolts if a crack is found, and reporting the inspection results to the manufacturer. This AD was prompted by reports of cracked rudder cable attachment screws. The FAA is issuing this AD to address the unsafe condition on these products.

DATES: This AD is effective August 28, 2020.

The Director of the Federal Register approved the incorporation by reference of certain publications listed in this AD as of August 28, 2020.

The FAA must receive comments on this AD by September 28, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact Blanik Aircraft CZ s.r.o., Beranovych 65, Letnany, Praha, 199 00, Czech Republic; phone: +420 731 425 699; internet: https://www.blanik.aero/customer-support; email: info@blanik.aero. You may view this referenced service information at the FAA, Airworthiness Products Section, Operational Safety Branch, 901 Locust, Kansas City, Missouri 64106. For information on the availability of this material at the FAA, call (816) 329-4148. It is also available on the internet at https://www.regulations.gov by searching for and locating Docket No. FAA-2020-0714.

Examining the AD Docket

You may examine the AD docket on the internet at https://www.regulations.gov by searching for and locating Docket No. FAA-2020-0714; or in person at Docket Operations between 9 a.m. and 5 p.m., Monday through Friday, except Federal holidays. The AD docket contains this final rule, the mandatory continuing airworthiness information (MCAI), any comments received, and other information. The street address for Docket Operations is listed above. Comments will be available in the AD docket shortly after receipt.

FOR FURTHER INFORMATION CONTACT: Jim Rutherford, Aerospace Engineer, FAA, General Aviation & Rotorcraft Section, International Validation Branch, 901 Locust, Room 301, Kansas City, Missouri 64106; phone: (816) 329-4165; fax: (816) 329-4090; email: jim.rutherford@faa.gov.

SUPPLEMENTARY INFORMATION:

Discussion

The European Union Aviation Safety Agency (EASA), which is the Technical Agent for the Member States of the European Community, has issued EASA AD No. 2020-0068-E, dated March 23, 2020 (referred to after this as “the MCAI”), to address an unsafe condition for Blanik Aircraft CZ s.r.o. Model L 23 Super-Blanik gliders. The MCAI states:

During a standard maintenance procedure on an L 23 Super-Blaník sailplane, a crack was detected on a rudder control cable attachment screw.

This condition, if not detected and corrected, could lead to rudder control failure, possibly resulting in loss of directional control of the sailplane.

To address this unsafe condition, BACZ [Blanik Aircraft CZ s.r.o.] issued the MB [mandatory bulletin] and the IB [information bulletin] to provide inspection and replacement instructions.

For the reasons described above, this [EASA] AD requires a one-time inspection and, depending on findings, replacement of affected parts.

Blanik Aircraft CZ s.r.o. advises that reporting by operators and maintenance facilities indicates that this issue is not an isolated event. You may obtain further information by examining the MCAI in the AD docket on the internet at https://www.regulations.gov by searching for and locating Docket No. FAA-2020-0714.

Related Service Information Under 1 CFR Part 51

The FAA reviewed Blanik Mandatory Bulletin Document No. L23/060a, Revision 2, dated March 17, 2020, which contains procedures for inspecting the affected parts. The FAA also reviewed Blanik Information Bulletin Document No. L23/061b, Revision 1, dated March 17, 2020, which contains procedures for replacing the affected parts. This service information is reasonably available because the interested parties have access to it through their normal course of business or by the means identified in the ADDRESSES section.

FAA's Determination

This product has been approved by EASA, and is approved for operation in the United States. Pursuant to our bilateral agreement with the European Union, EASA has notified us of the unsafe condition described in the MCAI and service information referenced above. The FAA is issuing this AD because it evaluated all the relevant information provided by EASA and determined the unsafe condition is likely to exist or develop in other products of the same type design.

AD Requirements

This AD requires a one-time inspection of the rudder control cable attachment screws and hinge bolts and, if a crack is found, replacement of the affected parts as specified in the service information described previously. This AD also requires reporting certain information to the manufacturer.

FAA's Justification and Determination of the Effective Date

An unsafe condition exists that requires the immediate adoption of this AD without providing an opportunity for public comments prior to adoption. The FAA has found that the risk to the flying public justifies waiving notice and comment prior to adoption of this rule because the required corrective actions must be accomplished before further flight. Therefore, the FAA finds good cause that notice and opportunity for prior public comment are impracticable. In addition, for the reason stated above, the FAA finds that good cause exists for making this amendment effective in less than 30 days.

Comments Invited

This AD is a final rule that involves requirements affecting flight safety and was not preceded by notice and an opportunity for public comment. However, we invite you to send any written data, views, or arguments about this final rule. Send your comments to an address listed under the ADDRESSES section. Include “Docket No. FAA-2020-0714; Product Identifier MCAI-2020-00589-G” at the beginning of your comments. The FAA will consider all comments received by the closing date and may amend this AD because of those comments.

Except for Confidential Business Information as described in the following paragraph, and other information as described in 14 CFR 11.35, the FAA will post all comments we receive, without change, to https://regulations.gov, including any personal information you provide. The FAA will also post a report summarizing each substantive verbal contact it receives about this AD.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Jim Rutherford, Aerospace Engineer, FAA, General Aviation & Rotorcraft Section, International Validation Branch, 901 Locust, Room 301, Kansas City, Missouri 64106. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 91 gliders of U.S. registry. The FAA estimates the following costs to comply with this AD:

Estimated Costs
Action | Labor cost | Parts cost | Cost per product | Cost on U.S. operators
Inspect rudder cable attach fasteners | 2.5 work-hours × $85.00 per hour = $212.50 | $0.00 | $212.50 | $19,337.50
Reporting results to the manufacturer | 1 hour × $85.00 per hour = $85.00 | 0.00 | 85.00 | 7,735.00

The FAA estimates the following costs to do any necessary replacements that would be required based on the results of the inspection. The FAA has no way of determining the number of parts that might need these replacements.

On-Condition Costs
Action | Labor cost | Parts cost | Cost per product
Replace fasteners | 3.5 work-hours × $85.00 per hour = $297.50 | $213.00 | $510.50

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-16-05 Blanik Aircraft CZ s.r.o.: Amendment 39-21189; Docket No. FAA-2020-0714; Project Identifier MCAI-2020-00589-G.

(a) Effective Date

This AD is effective August 28, 2020.

(b) Affected ADs

None.

(c) Applicability

This AD applies to Blanik Aircraft CZ s.r.o. Model L 23 Super-Blanik gliders, all serial numbers, certificated in any category.

(d) Subject

Joint Aircraft System Component (JASC) Code 2720, RUDDER CONTROL SYSTEM.

(e) Unsafe Condition

This AD was prompted by reports of cracking on the rudder control cable attachment screw. The FAA is issuing this AD to detect and prevent a crack in a rudder control cable attachment screw, which could result in in-flight collapse of the screw. The unsafe condition, if not addressed, could result in rudder control failure and loss of control of the glider.

(f) Compliance

Comply with this AD within the compliance times specified, unless already done.

(g) Inspection and Replacement

(1) For purposes of this AD, an affected part means a part identified in table 1 to paragraph (g)(1) of this AD. The series refers to the second pair of digits in the glider serial number.

(2) Before further flight after August 28, 2020 (the effective date of this AD), inspect each affected part in accordance with the Working Procedure, paragraphs A.1(1) through A.1(4) or paragraphs A.2(1) through A.2(4), as applicable for each part, of Blanik Mandatory Bulletin Document No. L23/060a, Revision 2, dated March 17, 2020.

(3) If there are no cracks in the inspection area of a part during the inspection required by paragraph (g)(2) of this AD, before further flight, install the rudder in accordance with the Working Procedure, paragraph A.1(8) or A.2(8), as applicable for each part, of Blanik Mandatory Bulletin Document No. L23/060a, Revision 2, dated March 17, 2020.

(4) If there are any cracks in the inspection area of a part during the inspection required by paragraph (g)(2) of this AD, before further flight, replace the part in accordance with the Working Procedure, paragraphs A.1, A.2, either A.3.1. or A.3.2 (as applicable), and A.4, of Blanik Information Bulletin Document No. L23/061b, Revision 1, dated March 17, 2020, and install the rudder in accordance with the Working Procedure, paragraph A.1(8) or A.2(8), as applicable for each part, of Blanik Mandatory Bulletin Document No. L23/060a, Revision 2, dated March 17, 2020.

(h) Reporting Requirement

Within 10 days after each inspection required by paragraph (g)(1) of this AD, report the following information to Blanik Aircraft CZ s.r.o. at the address provided in paragraph (m)(3) of this AD.

(1) Glider registration number (N number).

(2) Glider serial number.

(3) Glider total hours time-in-service.

(4) Number of starts by winch and tow (if known).

(5) Inspection results (including no findings).

(i) Credit for Previous Actions

You may take credit for the actions required by paragraphs (g)(2) and (g)(3) of this AD if you accomplish those actions before the effective date of this AD using Blanik Mandatory Bulletin Document No. L23/060a, Revision 1, dated March 4, 2020, and, Blanik Information Bulletin Document No. L23/061b, original issue, dated March 4, 2020. If you take this credit, you do not have to comply with the reporting requirement in paragraph (h) of this AD.

(j) Paperwork Reduction Act Burden Statement

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

(k) Alternative Methods of Compliance (AMOCs)

(1) The Manager, Small Airplane Standards Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l) of this AD.

(2) Before using any approved AMOC, notify your appropriate principal inspector, or lacking a principal inspector, the manager of the local flight standards district office/certificate holding district office.

(l) Related Information

(1) For more information about this AD, contact Jim Rutherford, Aerospace Engineer, FAA, General Aviation & Rotorcraft Section, International Validation Branch, 901 Locust, Room 301, Kansas City, Missouri 64106; phone: (816) 329-4165; fax: (816) 329-4090; email: jim.rutherford@faa.gov.

(2) Refer to European Union Aviation Safety Agency (EASA) AD No. 2020-0068-E, dated March 23, 2020, for more information. You may examine the EASA AD in the AD docket on the internet at https://www.regulations.gov by searching for and locating it in Docket No. FAA-2020-0714.

(m) Material Incorporated by Reference

(1) The Director of the Federal Register approved the incorporation by reference of the service information listed in this paragraph under 5 U.S.C. 552(a) and 1 CFR part 51.

(2) You must use this service information as applicable to do the actions required by this AD, unless the AD specifies otherwise.

(i) Blanik Mandatory Bulletin Document No. L23/060a, Revision 2, dated March 17, 2020.

(ii) Blanik Information Bulletin Document No. L23/061b, Revision 1, dated March 17, 2020.

(3) For Blanik service information identified in this AD, contact Blanik Aircraft CZ s.r.o., Beranovych 65, Letnany, Praha, 199 00, Czech Republic; phone: +420 731 425 699; internet: https://www.blanik.aero/customer-support; email: info@blanik.aero.

(4) You may view this service information at the FAA, Airworthiness Products Section, Operational Safety Branch, 901 Locust, Kansas City, Missouri 64106. For information on the availability of this material at the FAA, call (816) 329-4148. It is also available on the internet at https://www.regulations.gov by searching for locating Docket No. FAA-2020-0714.

(5) You may view this service information that is incorporated by reference at the National Archives and Records Administration (NARA). For information on the availability of this material at NARA, email: fedreg.legal@nara.gov, or go to: https://www.archives.gov/federal-register/cfr/ibr-locations.html.

Issued on July 28, 2020.
Lance T. Gant,
Director, Compliance & Airworthiness Division, Aircraft Certification Service.

[FR Doc. 2020-17650 Filed 8-12-20; 8:45 am]

BILLING CODE 4910-13-P